DEPARTMENT OF THE TREASURY

United States Mint

Notification of United States Mint 2009 Presidential $1 Coin 25-Coin Numismatic Rolls Pricing

SUMMARY: The United States Mint is announcing the price of the 2009 Presidential $1 Coin 25-Coin Numismatic Rolls.

The 2009 Presidential $1 Coin 25-Coin Numismatic Rolls, honoring Presidents William Henry Harrison, John Tyler, James K. Polk and Zachary Taylor, will be priced at $35.95 each. Rolls of Presidential $1 Coins struck at both the United States Mint at Philadelphia and the United States Mint at Denver will be available.

The first 2009 Presidential $1 Coin 25-Coin Numismatic Roll, honoring President William Henry Harrison, will be offered for sale on February 19, 2009.

FOR FURTHER INFORMATION CONTACT: B.B. Craig, Associate Director for Sales and Marketing; United States Mint; 801 Ninth Street, NW.; Washington, DC 20220; or call 202-354-7500.

Authority: 31 U.S.C. 5111, 5112 & 9701.

Dated: February 19, 2009.
Edmund C. Moy,
Director, United States Mint.

[FR Doc. E9-4005 Filed 2-24-09; 8:45 am]

BILLING CODE 4810-37-P